DEPARTMENT OF THE TREASURY

Proposed Collection; Comment Request

AGENCY: Departmental Offices, Treasury.

ACTION: Notice and request for comments.

SUMMARY: The Department of the Treasury, as part of its continuing effort to reduce paperwork and respondent burden, invites the general public and other Federal agencies to comment on this continuing information collection, as required by the Paperwork Reduction Act of 1995, Public Law 104-13 (44 U.S.C. 3506(c)(2)(A)).

DATES: Written comments should be received on or before August 29, 2016 to be assured of consideration.

ADDRESSES: Send comments regarding the burden estimate, or any other aspect of the information collection, including suggestions for reducing the burden, to the Department of the Treasury, Departmental Offices, Office of Financial Stability, ATTN: Sonya Johnson, 1500 Pennsylvania Avenue NW., Washington, DC 20220, (202) 927-8868.

FOR FURTHER INFORMATION CONTACT: Requests for additional information should be directed to to the Department of the Treasury, Departmental Offices, Office of Financial Stability, ATTN: Sonya Johnson, 1500 Pennsylvania Avenue NW., Washington, DC 20220, (202) 927-8868.

SUPPLEMENTARY INFORMATION:

OMB Control Number: 1505-0216.

Title: Troubled Asset Relief Program—Making Home Affordable Participants.

Abstract: Authorized under the Emergency Economic Stabilization Act (EESA) of 2008 (Public Law 110-343), the Department of the Treasury has implemented several aspects of the Troubled Asset Relief Program. Among these components is a voluntary foreclosure prevention program—the Making Home Affordable (MHA) program—under which the Department uses TARP funds to lower the mortgage payments of qualifying borrowers. The Treasury does this through agreements with mortgage servicers (Servicer Participation Agreements, or SPAs) to modify the loans they service. Servicers that have executed a SPA are eligible to participate in the program.

Type of Review: Revision of a currently approved collection.

Affected Public: Businesses or other for-profits.

Estimated Number of Respondents: 140.

Estimated Number of Annual Responses: 1,680.

Estimated Hours per Response: 8.

Estimated Total Annual Burden Hours: 13,440.

Request for Comments: Comments submitted in response to this notice will be summarized and included in the request for Office of Management and Budget approval. Comments may become a matter of public record. The public is invited to submit comments concerning: (a) Whether the collection of information is necessary for the proper performance of the functions of the agency, including whether the information will have practical utility; (b) the accuracy of the agency's estimate of the burden of the collection of information; (c) ways to enhance the quality, utility, and clarity of the information to be collected; (d) ways to minimize the burden of the collection of information on respondents, including the use of automated collection techniques or other forms of information technology; and (e) estimates of capital or start-up costs and costs of operation, maintenance, and purchase of services to provide information.

Dated: June 24, 2016.
Brenda Simms,
Treasury PRA Clearance Officer.

[FR Doc. 2016-15416 Filed 6-28-16; 8:45 am]

BILLING CODE 4810-25-P